DEPARTMENT OF ENERGY

International Energy Agency Meetings

AGENCY: Department of Energy.

ACTION: Notice of meetings.

SUMMARY: The Industry Advisory Board (IAB) to the International Energy Agency (IEA) will meet March 12-15, 2002, at the headquarters of the IEA in Paris, France in connection with the IEA's Disruption Simulation Exercise Program (ERE2).

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held at the headquarters of the IEA, 9, rue de la Fédération, Paris, France, on March 12, 2002, beginning at approximately 2:15 p.m. The purpose of this meeting is to permit attendance by representatives of U.S. company members of the IAB at an emergency response procedures training session hosted by the IEA's Standing Group on Emergency Questions (SEQ), which is scheduled to be held at the IEA on March 12, 2002. The Agenda for the meeting is under the control of the IEA. It is expected the IEA will adopt the following Agenda:

1. Welcome to the IEA.

2. Objectives of the Session.

3. Introduction to the IEA Emergency System—Background and Objectives, Emergency Response Measures, Organization and Roles.

4. Activation of IEA Measures—A Step by Step Process—Coordinated Emergency Response Measures (CERM) procedures and CERM situations, Application of International Energy Program (IEP)/Emergency Management Manual Procedures.

5. IEA Energy Statistics and Emergency Data System—Structure and Contents of Emergency Questionnaires, and Reporting Relationships.

6. IEA Information Technologies—Structure and Capabilities of IEA Information Technologies.

7. Questions & Answers.

8. Summary of the Training Session.

A meeting involving members of the IAB in connection with the IEA's Disruption Simulation Exercise Program (ERE2) will be held on March 13 and 14, 2002, at the headquarters of the IEA beginning at approximately 9 a.m., and including a preparatory encounter among company representatives from approximately 8:45 a.m. to 9 a.m. The purpose of this meeting is to train IEA delegates in the use of IEA emergency response procedures by reacting to a hypothetical oil supply disruption scenario. The Agenda for the meeting is under the control of the IEA. It is expected the IEA will adopt the following Agenda:

I. Disruption—Stage 1

A. Plenary Session

1. Introduction by SEQ Chairman and IEA Oil Markets and Emergency Preparedness (OME) Director.

2. Introduction of Simulation Facilitator, Market Group, Media Group, and Design Group.

3. Logistics are described by Head of Emergency Plans and Preparations Division (EPPD).

4. Rules are defined and simulation is initiated by Facilitator.

5. Before the announcement of the situation, the Market Group will describe and discuss the oil market context of the session.

6. The Stage 1 event is announced.

7. A brief analysis of the market impact by the Market Group.

8. The Media Group requests some on-the-spot answers.

B. Participants Break Out Into Assigned Teams

1. Respond to specific questions on market analysis and IEA decision-making.

2. Report on what action(s) if any the IEA should take at this point.

3. Submit a brief report to the Facilitator.

C. Plenary Session

1. Presentation of four team reports (more if sufficiently diverse).

2. Reactions and questions from the Media Group to each team report presentation.

3. Reaction from Market Group on fundamentals following all team reports.

4. Discussions on the recommendations.

5. Chairman's Summary of the Stage 1 Session.

II. Disruption—Stage 2

A. Plenary Session

1. Introduction by SEQ Chairman and OME Director.

2. Simulation is initiated by Facilitator.

3. Before the announcement of the situation, the Market Group will describe and discuss the oil market context of the session.

4. The Stage 2 event is announced.

5. The Market Group provides a brief analysis of the supply demand impact.

6. The Media Group requests some on-the-spot answers.

B. Participants Break Out Into Assigned Teams

1. Respond to specific questions on market analysis and IEA decision-making.

2. Report on what action(s) the IEA should take at this point.

3. Submit a brief report to the Facilitator.

C. Plenary Session

1. Presentation of four team reports (more if sufficiently diverse).

2. Reactions and questions from the Media Group to each team report presentation.

3. Reaction from Market Group on fundamentals following all team reports.

4. Discussions on the recommendations.

5. Review and critique of the first day of the exercise.

6. Chairman's summary.

III. Disruption—Stage 3

A. Plenary Session

1. Introduction by SEQ Chairman.

2. Simulation is initiated by Facilitator.

3. Before the announcement of the situation, the Market Group will describe and discuss the oil market context of the session.

4. The Stage 3 event is announced.

5. The Market Group provides a brief analysis of the supply demand impact.

6. The Media Group requests some on-the-spot answers.

B. Participants Break Out Into Assigned Teams

1. Respond to specific questions on market analysis and IEA decision-making.

2. Report on what action(s) if any the IEA should take at this point.

3. Submit a brief report to the Facilitator.

C. Plenary Session

1. Presentation of four team reports (more if sufficiently diverse).

2. Reactions and questions from the Media Group to each team report presentation.

3. Reaction from Market Group on fundamentals following all team reports.

4. Discussions on the recommendations.

5. Chairman's summary of the session.

IV. Plenary Discussion on Conclusions

A. Introduction Of The Session By The SEQ Chairman

B. Presentation By The Facilitator Of The Outcomes Of The Exercises

C. Summary By The Market Group Of Fundamentals

D. Discussion Of The Types And Magnitudes Of The Recommended Responses

E. Discussion Of The Decision-making Process

F. Chairman's Initial Summary Of The Exercise And Recommendations

A meeting of the IAB will be held on March 15, 2002, at the IEA beginning at approximately 9 a.m. The purpose of this meeting is to permit attendance by representatives of U.S. company members of the IAB at a meeting of the IEA's SEQ, which is scheduled to be held on that date, including a preparatory encounter among company representatives from approximately 9 a.m. to 9:15 a.m. The Agenda for the meeting is under the control of the IEA. It is expected the IEA will adopt the following Agenda:

1. Adoption of the Agenda.

2. Approval of the Summary Record of the 103rd Meeting.

3. SEQ Program of Work for 2003-2004_2003-2004 Work Program of the SEQ—First Elements.

4. Update on Compliance with IEP Stockholding Commitments.

5. Policy and Legislative Developments in Member Countries—Update on Korea's Accession to the IEA.

6. Report on Developments in Non-Member Countries and International Organizations.

7. Emergency Response Training and Simulation Exercise_Initial Report on the Emergency Response Training and Simulation Exercise 2002 (ERE2), Phase 3 and Data Workshop Issues.

8. Current IAB Activities—Oral Report by the IAB Chairman.

9. Emergency Response Procedures—Transition from CERM to IEP Measures.

10. Questionnaire on IEA Oil Stock Drawdown Capacity.

11. Joint SEQ/Standing Group on Long-Term Cooperation (SLT) Seminar_Conclusions from Joint SEQ/SLT Inter-fuels Workshop, Results from the Fuel-Switchng Survey.

12. Emergency Response Reviews of IEA Countries_Tentative Schedule of Emergency Response Reviews for 2002-2003.

13. Emergency Data and Related Issues for Information.

Emergency Reserve and Net Import Situation of IEA Countries on January 1, 2001.

Emergency Reserve Situation of IEA Candidate Countries on January 1, 2001.

Monthly Oil Statistics December 2001.

Base Period Final Consumption 1Quarter(Q)2000/4Q2001.

Quarterly Oil Forecast—1Q2002.

Reissue of Emergency Mangement Manual.

Update of Emergency Contacts List.

14. Other Business_Dates of Next Meetings—June 25-27, 2002 and November 12-15 (or 19-22), 2002.

As provided in section 252(c)(1)(A)(ii) of the Energy Policy and Conservation Act (42 U.S.C. 6272(c)(1)(A)(ii)), these meetings are open only to representatives of members of the IAB and their counsel, representatives of members of the SEQ, representatives of the Departments of Energy, Justice, and State, the Federal Trade Commission, the General Accounting Office, Committees of Congress, the IEA, and the European Commission, and invitees of the IAB, the SEQ, or the IEA.

Issued in Washington, DC, February 28, 2002.
Eric Fygi,
Deputy General Counsel.

[FR Doc. 02-5201 Filed 3-4-02; 8:45 am]

BILLING CODE 6450-01-P